DEPARTMENT OF ENERGY

Office of Energy Efficiency and Renewable Energy

[EERE-2016-WAP-GUID-001]

Updating Weatherization Health and Safety Guidance

AGENCY: Office of Energy Efficiency and Renewable Energy, Department of Energy.

ACTION: Notice of availability and request for public comment.

SUMMARY: The U.S. Department of Energy (DOE) is updating Weatherization Health and Safety Guidance related to the implementation and installation of health and safety measures as part of the DOE Weatherization Assistance Program (WAP). The draft guidance also provides required components for Grantees to include in their Health and Safety (H&S) Plans. This guidance will assist Grantee decision-making during H&S Plan development.

This notice also serves to inform the public of the availability of an online tool which provides notification of, and allows individuals to submit comments on, the draft guidance related to the DOE Weatherization Assistance Program. All future draft guidance releases will be made via the online tool. Individuals who wish to receive notification of draft guidance releases may receive that notification via the online tool. For information on the web address of the online tool see the ADDRESSES section of this notice.

DATES: DOE will accept written comments until August 29, 2016. For more information on how to submit comments, please see the ADDRESSES and SUPPLEMENTARY INFORMATION sections of this notice.

ADDRESSES: DOE's draft Weatherization and Health and Safety Guidance is available via the online commenting tool at: http://doe.civicomment.org/ Interested parties are invited to submit comments on the guidance via this online tool.

FOR FURTHER INFORMATION CONTACT: Erica Burrin; U.S. Department of Energy, Office of Energy Efficiency and Renewable Energy, 1000 Independence Avenue SW., EE5W, Washington, DC 20585; (202) 280-9863; Erica.Burrin@ee.doe.gov.

For legal issues, please contact Kavita Vaidyanathan; U.S. Department of Energy, Office of the General Counsel, 1000 Independence Avenue SW., GC-33, Washington, DC 20585; (202) 586-0669; Kavita.Vaidyanathan@hq.doe.gov.

SUPPLEMENTARY INFORMATION: The U.S. Department of Energy (DOE) is updating its Weatherization Assistance Program (WAP) Weatherization Health and Safety Guidance to clarify, update and provide additional information related to the implementation and installation of health and safety measures as part of the DOE WAP. This draft guidance also provides required components for Grantees to include in their Health and Safety (H&S) Plans. The guidance and attachments supersede the following:

WPN 11-6a, Supplemental Health and Safety Guidance

WPNs 11-6, Health and Safety Guidance

WPN 09-6, Lead Safe Weatherization (LSW) Additional Materials and Information

WPN 08-6, Interim Lead-Safe Weatherization Guidance

WPN 08-4, Space Heater Policy

WPNs 02-6, Weatherization Activities and Federal Lead-Based Paint Regulations

WPN 02-5, Health and Safety Guidance

It is DOE's aim that this guidance will better assist Grantee decision-making during H&S Plan development.

Grantees may create more stringent requirements as long as those requirements do not conflict with this guidance.

Submitting Comments on the Draft Weatherization Health and Safety Guidance

DOE will accept comments regarding the draft Weatherization Health and Safety Guidance no later than the date provided in the DATES section at the beginning of this notice. Interested parties are invited to submit comments via the online tool as outlined in the ADDRESSES section of this notice.

Issued in Washington, DC on July 14, 2016.
AnnaMaria Garcia,
Director, Office of Weatherization and Intergovernmental Program, Energy Efficiency and Renewable Energy.

[FR Doc. 2016-17751 Filed 7-28-16; 8:45 am]

BILLING CODE 6450-01-P